DEPARTMENT OF COMMERCE

Bureau of Industry and Security

Agency Information Collection Activities; Submission to the Office of Management and Budget (OMB) for Review and Approval; Comment Request; Statement by Ultimate Consignee and Purchaser

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 25, 2024, during a 60-day comment period. This notice allows for an additional 30 days for public comments.

Agency: Bureau of Industry and Security, Commerce.

Title: Statement by Ultimate Consignee and Purchaser.

OMB Control Number: 0694-0021.

Form Number(s): BIS-711.

Type of Request: Regular submission, extension of a current information collection.

Number of Respondents: 414.

Average Hours per Response: 16 minutes.

Burden Hours: 110.

Needs and Uses: Sections 4812(b)(7) and 4814(b)(1)(B) of the Export Control Reform Act (ECRA), authorizes the President and the Secretary of Commerce to issue regulations to implement the ECRA including those provisions authorizing the control of exports of U.S. goods and technology to all foreign destinations, as necessary for the purpose of national security, foreign policy and short supply, and the provision prohibiting U.S. persons from participating in certain foreign boycotts.

Export control authority has been assigned directly to the Secretary of Commerce by the ECRA and delegated by the President to the Secretary of Commerce. This authority is administered by the Bureau of Industry and Security through the Export Administration Regulations (EAR). The ECRA is not permanent legislation, and when it has lapsed due to the failure to enact a timely extension, Presidential executive orders under the International Emergency Economic Powers Act (IEEPA) have directed and authorized the continuation in force of the EAR.

The collection is necessary under part 748.11 of the EAR. This section states that the Form BIS-711, Statement by Ultimate Consignee and Purchaser, or a statement on company letterhead (in accordance with 748.11(b)(1), unless one or more of the exemptions set forth in section 748.11(a)) exists. The BIS-711 or letter provides information on the foreign importer receiving the U.S. technology and how the technology will be utilized. The BIS-711 or letter provides assurances from the importer that the technology will not be misused, transferred or re-exported in violation of the EAR. The form is also required for certain reexport authorizations specified in part 748.12(b) of the EAR.

Affected Public: Business or other for-profit organizations.

Frequency: On occasion.

Respondent's Obligation: Voluntary.

Legal Authority: EAR Part 748.11.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0694-0021.

Sheleen Dumas,
Department PRA Clearance Officer, Office of the Under Secretary for Economic Affairs, Commerce Department.

[FR Doc. 2024-16986 Filed 7-31-24; 8:45 am]

BILLING CODE 3510-33-P